DEPARTMENT OF ENERGY

Federal Energy Regulatory Commission

[Docket No. RP01-65-000]

Destin Pipeline Company, L.L.C.; Notice of Revenue Crediting Report

October 31, 2000.

Take notice that on October 26, 2000 Destin Pipeline Company, L.L.C. (Destin) submitted its Annual Revenue Crediting Provision Report pursuant to Section 14.2 of the General Terms and Conditions of Destin's FERC Gas Tariff—Original Volume No. 1. This section requires Destin to either refund or surcharge amounts received from the resolution of imbalances with its shippers and interconnected pipelines, and, any incidential gas sales or purchases necessary to operate the system over a twelve-month period. For the twelve-month period ended August 31, 2000, Destin received monies in excess of the amounts paid.

Accordingly, Destin is issuing checks, concomitant with its filing, to refund the net receipts based on each shipper's proportionate share of the quantities transported for the same twelve-month period.

Any person desiring to be heard or to protest said filing should file a motion to intervene or a protest with the Federal Energy Regulatory Commission, 888 First Street, NE., Washington, DC 20426, in accordance with Sections 385.214 of 385.211 of the Commission's Rules and Regulations. All such motions or protests must be filed on or before November 7, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28376 Filed 11-3-00; 8:45 am]

BILLING CODE 6717-01-M